DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed project or to obtain a copy of the information collection plans, call the SAMHSA Reports Clearance Officer at (240) 276-0166.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: State Opioid Response (SOR)/Tribal Opioid Response (TOR) Program Instrument (OMB No. 0930-0384)—Revision

SAMHSA is requesting approval to modify its existing SOR/TOR Program Instrument by (1) broadening language from `naloxone' to `naloxone and other opioid overdose reversal medications' due to the availability of new FDA-approved non-naloxone overdose reversal medications; (2) broadening language from `fentanyl test strips' to `drug checking technologies as directed by SAMHSA' due to the availability of new drug checking technology, including test strips for other emerging substances; (3) reducing the number of questions from 12 to 10 by combining four questions with similar themes into two questions for clarity; (4) removing question 12 because it is comprised of more than one question with several different ideas, making it unsuited for this instrument; and (5) adding one question at the request of Office of National Drug Control Policy (ONDCP)to collect information on Congressionally mandated and programmatic activities and comply with reporting requirements. The program-level information is collected quarterly and entered and stored in SAMHSA's Performance Accountability and Reporting System, which is a real-time, performance management system that captures information on SAMHSA funded substance use and substance use disorder prevention, harm reduction, treatment, and recovery support services, and mental health services delivered in the United States. Continued approval of this information collection will allow SAMHSA to continue to meet Government Performance and Results Modernization Act (GPRA) of 2010 reporting requirements that quantify the effects and accomplishments of its discretionary grant programs.

The SOR/TOR programs are authorized under the Consolidated Appropriations Act, 2023, Division H, Title II [Pub. L. 117-328], and section 1003 of the 21st Century Cures Act [Pub. L. 114-255] (42 U.S.C. 290ee-3a), as amended. SOR/TOR programs aim to address the opioid crisis by increasing access to FDA-approved medications for the treatment of opioid use disorder (MOUD), and support the continuum of prevention, harm reduction, treatment, and recovery support services for opioid use disorder (OUD) and other concurrent substance use disorders. The SOR program also supports the continuum of care for stimulant misuse and use disorders, including for cocaine and methamphetamine.

SAMHSA is proposing to revise the SOR/TOR Program Instrument data collection instrument (OMB No. 0930-0384), to collect information on Congressionally mandated and programmatic activities and comply with reporting requirements.

SAMHSA developed the SOR/TOR Program Instrument to collect minimum data on naloxone purchase and distribution, but the SOR/TOR programs are unique in that they have prevention, education, and harm reduction requirements. SOR/TOR grantees are required to engage in the following prevention and education activities: (1) train peers, first responders, and other key community sectors on recognition of opioid overdose and appropriate use of the opioid overdose antidote naloxone; (2) develop evidence-based community prevention efforts such as strategic messaging on the consequences of opioid and stimulant misuse; (3) implement school-based prevention programs and outreach; and (4) purchase and distribute opioid overdose antidote reversal naloxone based on the naloxone distribution and saturation plan, and train on its use. The revised tool will continue to allow SAMHSA to collect data on the required education and prevention activities, and better assess grantee performance on these activities. The revisions will continue to assist SAMHSA in providing comprehensive data on the full range of required activities to inform Congressionally mandated reports for the SOR program.

In order to address these issues, SAMHSA is proposing to (1) broaden language from `naloxone' to `naloxone and other opioid overdose reversal medications' due to the availability of new FDA-approved non-naloxone overdose reversal medications; (2) broaden language from `fentanyl test strips' to `drug checking technologies as directed by SAMHSA' due to the availability of new drug checking technology, including test strips for other emerging substances; (3) reduce the number of questions from 12 to 10 by combining four questions with similar themes into two questions for clarity; (4) remove question 12 because it is comprised of more than one question with several different ideas, making it unsuited for this instrument; and (5) add one question at the request of ONDCP to collect information on Congressionally mandated and programmatic activities and comply with reporting requirements.

A summary of the proposed changes includes:

• Broadening the language to include new medications and technologies that will provide SAMHSA data on the following:

○ Purchase and distribution of naloxone and other opioid overdose reversal medications; and

○ Purchase and distribution of drug checking technologies as directed by SAMHSA.

• The revised tool will provide SAMHSA with clarification on individuals recognizing an opioid overdose and appropriate use of naloxone and other opioid overdose reversal medication by collapsing two questions with a similar theme.

• The revised tool will provide SAMHSA with clarification on individuals educated on the consequences of opioid and/or stimulant misuse by collapsing two questions with a similar theme.

• One question will be added to provide data on the following:

○ Types of entities that distribute naloxone and other opioid overdose reversal medications.

The Center for Substance Abuse Treatment (CSAT) anticipates that the time required to collect and report the program-level information is approximately 18 minutes per response. Since the submission of the previous OMB package, there has been an increase in the number of respondents. The estimated burden associated with the program-level instrument includes an adjustment to reflect the current number of grantees.

Table 1—Estimate of Annualized Hour Burden for SOR/TOR Grantees
SAMHSA data collection | Number of respondents | Responses per respondent | Total number of responses | Burden hours per response | Total burden hours | Hourly wage ¹ | Total wage cost
Grantee-Level Instrument | 189 | 4 | 756 | .30 | 226.80 | $28.89 | $6,552.25
CSAT Total | 189 | 4 | 756 | .30 | 226.80 | 28.89 | 6,552.25
¹ The hourly wage estimate is $28.89 based on the Occupational Employment and Wages, Mean Hourly Wage Rate for 21-1018 Substance Abuse, Behavioral Disorder, and Mental Health Counselors = $28.89/hr. as of May 2023 (https://www.bls.gov/oes/current/oes211018.htm. Accessed on April 17, 2024.)

Send comments to the SAMHSA Reports Clearance Officer, 5600 Fishers Lane, Room 15E45, Rockville, Maryland 20857, OR email a copy to samhsapra@samhsa.hhs.gov. Written comments should be received by August 23, 2024.

Alicia Broadus,
Public Health Advisor.

[FR Doc. 2024-13766 Filed 6-21-24; 8:45 am]

BILLING CODE 4162-20-P